DEPARTMENT OF COMMERCE

International Trade Administration

[A-570-084, C-570-085]

Certain Quartz Surface Products From the People's Republic of China: Expansion of the Period of Review and Supplemental Opportunity To Request Administrative Review; Correction

AGENCY: Enforcement and Compliance, International Trade Administration, Department of Commerce.

ACTION: Notice; correction.

SUMMARY: The U.S. Department of Commerce (Commerce) published notice in the Federal Register of February 26, 2024, in which Commerce expanded the period of review (POR) for the current antidumping duty (AD) and countervailing duty (CVD) administrative reviews of certain quartz surface products (quartz surface products) from the People's Republic of China (China) to include entries suspended by the final scope ruling on Malaysian processed quartz slab prior to the current POR of the instant reviews. Commerce additionally provided a supplemental opportunity for interested parties to request a review of certain companies currently ineligible for the scope certification process. This notice incorrectly stated the start of the AD and CVD PORs.

FOR FURTHER INFORMATION CONTACT: Ajay K. Menon, AD/CVD Operations, Office IX, Enforcement and Compliance, International Trade Administration, U.S. Department of Commerce, 1401 Constitution Avenue NW, Washington, DC 20230; telephone: (202) 482-0208.

SUPPLEMENTARY INFORMATION:

Correction

In the Federal Register of February 26, 2024, in FR Doc 2024-03857, on page 14055, in the third column, and 14056, in the first column, correct the dates of the expanded POR to be November 4, 2021, through June 30, 2023, for the AD administrative review; and November 4, 2021, through December 31, 2022, for the CVD administrative review.

Background

On February 26, 2024, Commerce published in the Federal Register a notice expanding the PORs of the AD and CVD administrative reviews of quartz surface products from China and providing a supplemental opportunity for interested parties to request a review of certain companies currently ineligible for the scope certification process.¹ We incorrectly stated the starting dates of the expanded PORs for these administrative reviews.

¹ See Certain Quartz Surface Products from the People's Republic of China: Expansion of the Period of Review and Supplemental Opportunity To Request Administrative Review, 89 FR 14055 (February 26, 2024).

Notification to Interested Parties

This notice is issued and published in accordance with section 751 of the Tariff Act of 1930, as amended.

Dated: March 6, 2024.
James Maeder,
Deputy Assistant Secretary for Antidumping and Countervailing Duty Operations.

[FR Doc. 2024-05225 Filed 3-11-24; 8:45 am]

BILLING CODE 3510-DS-P